DEPARTMENT OF THE INTERIOR

Fish and Wildlife Service

50 CFR Part 17

Docket No. FWS-HQ-ES-2015-0008; 4500030113]

RIN 1018-BA81

Endangered and Threatened Wildlife and Plants; Removing Textual Descriptions of Critical Habitat Boundaries for Mammals, Birds, Amphibians, Fishes, Clams, Snails, Arachnids, Crustaceans, and Insects; Correction

AGENCY: Fish and Wildlife Service, Interior.

ACTION: Correcting amendment.

SUMMARY: We, the U.S. Fish and Wildlife Service, published a final rule in the Federal Register on April 27, 2018, to remove the textual descriptions of critical habitat boundaries from those designations for mammals, birds, amphibians, fishes, clams, snails, arachnids, crustaceans, and insects for which the maps have been determined to be sufficient to stand as the official delineation of critical habitat. Where we determined that the maps were not sufficient to stand as the official delineation of critical habitat, we revised the textual descriptions to include the following statement: “The map provided is for informational purposes only.” Inadvertently, we removed, rather than revised, a map note in the critical habitat designation for the Waccamaw silverside (Menidia extensa). The map note is necessary to clarify that the map in that entry is for informational purposes only. This document makes the necessary correction to the critical habitat designation for the Waccamaw silverside.

DATES: This correction is effective May 7, 2019.

FOR FURTHER INFORMATION CONTACT: Carey Galst, U.S. Fish and Wildlife Service, MS: ES, 5275 Leesburg Pike, Falls Church, VA 22041-3803; telephone 703-358-1954. If you use a telecommunications device for the deaf (TDD), call the Federal Relay Service at 800-877-8339.

SUPPLEMENTARY INFORMATION: On May 1, 2012, we published in the Federal Register (77 FR 25611) a final rule revising our regulations related to publishing textual descriptions of proposed and final critical habitat boundaries for codification in the Code of Federal Regulations (CFR) (2012 rule). Specifically, for critical habitat designations published after the effective date of the rule, the map(s), as clarified or refined by any textual language within the rule, constitutes the definition of the boundaries of a critical habitat. Each critical habitat area is shown on a map, with more-detailed information discussed in the preamble of the rulemaking documents published in the Federal Register. The map published in the CFR is generated from the coordinates and/or plot points corresponding to the location of the boundaries. These coordinates and/or plot points are included in the administrative record for the designation and are available to the public either online or at the Service field office responsible for the designation or both. In addition, if the Service concludes that additional tools or supporting information are appropriate and would help the public understand the official boundary map, we make the additional tools and supporting information available on our internet site and at the Service field office responsible for the critical habitat designation.

The preamble to the 2012 rule explained that, for critical habitat that had already been designated before the effective date of that rule, “we also intend to remove the textual descriptions of final critical habitat boundaries set forth in the CFR in order to save the annual reprinting cost, but we must do so in separate rulemakings to ensure that removing the textual descriptions does not change the existing boundaries of those designations” (77 FR 25618). We have now begun applying this approach by publishing a series of separate rulemakings that remove textual descriptions for any critical habitat designations promulgated prior to the effective date of the 2012 final rule if the maps are sufficient to stand as the official delineation of the boundaries. On April 27, 2018, we published the second such rulemaking—a final rule to remove the textual descriptions of critical habitat boundaries from those designations for mammals, birds, amphibians, fishes, clams, snails, arachnids, crustaceans, and insects for which the maps have been determined to be sufficient to stand as the official delineation of critical habitat (83 FR 18698) (2018 rule). That rule, which is codified at 50 CFR 17.94(b), set forth the conditions under which a map appearing in a critical habitat entry for any of those species is or is not considered the definition of the boundaries of a critical habitat. It did not alter the locations of any critical habitat boundaries.

In the 2018 rule, we mistakenly removed, rather than revised, a map note in the critical habitat designation for the Waccamaw silverside at 50 CFR 17.95(e). Under 50 CFR 17.94(b), the omission of the map note in the critical habitat designation for the Waccamaw silverside could mislead readers into thinking that the map in that entry stands as the official delineation of critical habitat, but it does not. Adding the revised map note to the Waccamaw silverside designation is necessary to clarify that the map in that entry is for informational purposes only. This document makes the necessary correction to the critical habitat designation for the Waccamaw silverside.

Administrative Procedure

As explained in the 2018 Rule and in the discussion above, neither the 2018 rule nor this amendment alters the locations of any critical habitat boundaries. However, there was an error in the 2018 Rule that could be perceived as altering the critical habitat boundary for the Waccamaw silverside, and this document is therefore necessary to correct that error and ensure that there is no change to that critical habitat boundary. Under these circumstances, we have determined, pursuant to 5 U.S.C. 551(4) and 553(b)(3)(B), that prior notice and opportunity for public comment are impractical and unnecessary. Public comment could not inform this process in any meaningful way. We have further determined that, under 5 U.S.C. 553(d)(3), the agency has good cause to make this correction effective upon publication, which is to comply with our regulations as soon as practicable.

List of Subjects in 50 CFR Part 17

Endangered and threatened species, Exports, Imports, Reporting and recordkeeping requirements, Transportation.

For the reasons given in the preamble, we amend part 17, subchapter B of chapter I, title 50 of the Code of Federal Regulations, with the following correcting amendment:

PART 17—ENDANGERED AND THREATENED WILDLIFE AND PLANTS

1. The authority citation for part 17 continues to read as follows:

Authority: 16 U.S.C. 1361-1407; 1531-1544; and 4201-4245, unless otherwise noted.

2. In § 17.95, in paragraph (e), amend the entry for “Waccamaw Silverside (Menidia extensa)” by adding a note above the map to read as follows:

§ 17.95 Critical habitat—fish and wildlife.

* * * * *

(e) Fishes.

* * * * *

Waccamaw Silverside (Menidia extensa)

* * * * *

Note: The map provided is for informational purposes only. Map follows:

* * * * *

Dated: April 8, 2019.
Margaret E. Everson,
Principal Deputy Director, U.S. Fish and Wildlife Service, Exercising the Authority of the Director, U.S. Fish and Wildlife Service.

[FR Doc. 2019-09356 Filed 5-6-19; 8:45 am]

BILLING CODE 4333-15-P